DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

NEIBANK: Microarray for Human Eye Research

Dr. Graeme J. Wistow (NEI)

DHHS Reference No. E-107-01/0

Licensing Contact: Pradeep Ghosh; 301-496-7736 ext. 211; e-mail: ghoshp@od.nih.gov

Microarrays have wide applications in basic research and are used for the discovery of candidate genes as markers for disease and for therapeutic intervention. “NEIBANK”, a new microarray research tool has been developed that allows researchers to compare expression levels of thousands of genes expressed in the eye. The technology comprises of a set of sequenced unamplified and normalized libraries derived from normal human eye tissues using a custom software, GRIST (Grouping and Identification of Sequence Tags). Using this technique, a non-redundant set of over 10,000 cDNA clones, potentially representing unique genes expressed in the human eye has been derived. This integrated technique of sequencing with bioinformatics led to the discovery of new genes and the novel splice forms of known genes. Thus, this technology can be used to examine processes of diseases, aging, normal and abnormal development in post-mortem or surgical eye samples and in cultured cell systems. Areas of particular interest for this array in eye research include, but are not limited to, retinal degeneration, age-related macular degeneration and cataract.

Intercellular Delivery of a Herpes Simplex Virus VP22 Fusion Protein From Cells Infected With Lentiviral Vectors

Dr. Zhennan Lai et al. (NINDS)

DHHS Reference No. E-295-00/0 filed 02 August 2001

Licensing Contact: Marlene Shinn; 301/496-7056 ext. 285; e-mail: shinnm@od.nih.gov

One of the current limitations to the use of gene therapy is the delivery of genes or proteins to a sufficient number of target cells in order to create a therapeutic response. It has recently been discovered that a series of virus-encoded and other regulatory proteins are able to cross biological membranes, leading to the discovery that the herpes simplex virus 1 tegument protein, VP22, could be used to direct the global delivery of therapeutic proteins intercellularly.

The NIH announces a new lentivirus double gene vector expressing recombinant VP22-fusion protein. The vector contains two separate transgenes driven by two independent promoters. A reporter gene replaced the nev region of the HIV-1 genome, and another selectable marker gene was inserted into the nef coding region. Both transgenes are simultaneously expressed in non-dividing cells such as neurons. When the gene for VP22-fusion protein is incorporated into the vector, the fusion gene product is delivered to the cytoplasm and nuclei of non-dividing mammalian cells in vitro and in vivo, and from transduced cells to neighboring (non-infected) cells.

Dated: September 28, 2001.
Jack Spiegel,
Director, Division of Technology Development and Transfer, Office of Technology Transfer, National Institutes of Health.

[FR Doc. 01-25170 Filed 10-5-01; 8:45 am]

BILLING CODE 4140-01-P